DEPARTMENT OF HOMELAND SECURITY

Federal Emergency Management Agency

[Docket ID FEMA-2018-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of December 7, 2018 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

David I. Maurstad,
Deputy Associate Administrator for Insurance and Mitigation, Department of Homeland Security, Federal Emergency Management Agency.

Community | Community map repository address
El Paso County, Colorado and Incorporated Areas
Docket No.: FEMA-B-1601
City of Colorado Springs | City Administration, 30 South Nevada Avenue, Colorado Springs, CO 80903.
City of Fountain | City Hall, 116 South Main Street, Fountain, CO 80817.
City of Manitou Springs | City Hall, 606 Manitou Avenue, Manitou Springs, CO 80829.
Town of Calhan | Town Hall, 556 Colorado Avenue, Calhan, CO 80808.
Town of Green Mountain Falls | Town Hall, 10615 Unit B Green Mountain Falls Road, Green Mountain Falls, CO 80819.
Town of Monument | Town Hall, 645 Beacon Lite Road, Monument, CO 80132.
Town of Palmer Lake | Town Hall, 42 Valley Crescent Street, Palmer Lake, CO 80133.
Town of Ramah | Town Hall, 113 South Commercial Street, Ramah, CO 80832.
Unincorporated Areas of El Paso County | Pikes Peak Regional Building Department, 2880 International Circle, Colorado Springs, CO 80910.
Lee County, Florida and Incorporated Areas
Docket No.: FEMA-B-1510
City of Fort Myers | Development Department, 1825 Hendry Street, Suite 101, Fort Myers, FL 33901.
Village of Estero | Community Development Department, 9401 Corkscrew Palms Circle, Estero, Florida 33928.
Unincorporated Areas of Lee County | Lee County Community Development Department, 1500 Monroe Street, 2nd Floor, Fort Myers, FL 33901.
St. Johns County, Florida and Incorporated Areas
Docket No.: FEMA-B-1709
City of St. Augustine | City Hall, Planning and Building Department, 75 King Street, St. Augustine, FL 32084.
City of St. Augustine Beach | City Hall, Building Department, 2200 A1A South, St. Augustine Beach, FL 32080.
Unincorporated Areas of St. Johns County | St. Johns County Permit Center, 4040 Lewis Speedway, St. Augustine, FL 32084.
Liberty County, Georgia and Incorporated Areas
Docket No.: FEMA-B-1701
City of Flemington | City Hall, 156 Old Sunbury Road, Flemington, GA 31313.
City of Hinesville | City Hall, 115 East M.L. King, Jr. Drive, Hinesville, GA 31313.
City of Midway | City Hall, 150 Butler Avenue, Unit D, Midway, GA 31320.
City of Riceboro | City Hall, 4614 South Coastal Highway, Riceboro, GA 31323.
City of Walthourville | City Hall, 222 Busbee Road, Walthourville, GA 31333.
Town of Allenhurst | Liberty Consolidated Planning Commission, 100 Main Street, Suite 7520, Hinesville, GA 31313.
Unincorporated Areas of Liberty County | Liberty County Courthouse Annex, Building and Licensing Department, 112 North Main Street, Room 1200, Hinesville, GA 31313.
Dallas County, Iowa and Incorporated Areas
Docket No.: FEMA-B-1728
City of Adel | City Hall, 301 South 10th Street, Adel, IA 50003.
City of Dallas Center | City Hall, 1502 Walnut Street, Dallas Center, IA 50063.
City of Dawson | City Hall, 208 South 1st Street, Dawson, IA 50066.
City of De Soto | City Hall, 405 Walnut Street, De Soto, IA 50069.
City of Dexter | City Hall, 911 State Street, Dexter, IA 50070.
City of Granger | City Hall, 1906 Main Street, Granger, IA 50109.
City of Perry | Building Official's Office, 1102 Willis Avenue, Perry, IA 50220.
City of Redfield | City Hall, 808 1st Street, Redfield, IA 50233.
City of Van Meter | City Hall, 310 Mill Street, Van Meter, IA 50261.
City of Waukee | City Hall, 230 West Hickman Road, Waukee, IA 50263.
City of Woodward | City Hall, 105 East 2nd Street, Woodward, IA 50276.
Unincorporated Areas of Dallas County | Dallas County Planning and Development Department, 907 Court Street, Adel, IA 50003.
Houston County, Minnesota and Incorporated Areas
Docket No.: FEMA-B-1610
City of Brownsville | City Hall, 104 North 6th Street, Brownsville, MN 55919.
City of Caledonia | City Hall, 231 East Main Street, Caledonia, MN 55921.
City of Hokah | City Hall, 102 Main Street, Hokah, MN 55941.
City of Houston | City Hall, 105 West Maple Street, Houston, MN 55943.
City of La Crescent | City Hall, 315 Main Street, La Crescent, MN 55947.
City of Spring Grove | City Hall, 118 First Avenue Northwest, Spring Grove, MN 55974.
Unincorporated Areas of Houston County | Houston County Courthouse, 304 South Marshall Street, Caledonia, MN 55921.
Coos County, Oregon and Incorporated Areas
Docket No.: FEMA-B-1729
City of Bandon | City Hall, 555 Highway 101, Bandon, OR 97411.
City of Coos Bay | City Hall, 500 Central Avenue, Coos Bay, OR 97420.
City of Coquille | City Hall, 851 North Central Boulevard, Coquille, OR 97423.
City of Lakeside | City Hall, 915 North Lake Road, Lakeside, OR 97449.
City of Myrtle Point | City Hall, 424 5th Street, Myrtle Point, OR 97458.
City of North Bend | City Hall, 835 California Street, North Bend, OR 97459.
City of Powers | City Hall, 275 Fir Street, Powers, OR 97466.
Coquille Indian Tribe | Administrative Building, 3050 Tremont Avenue, North Bend, OR 97459.
Unincorporated Areas of Coos County | Coos County Courthouse, 250 North Baxter Street, Coquille, OR 97423.
Berkeley County, South Carolina and Incorporated Areas
Docket No.: FEMA-B-1661
City of Charleston | Engineering Department, 2 George Street, Suite 2100, Charleston, SC 29401.
City of Goose Creek | City Hall, 519 North Goose Creek Boulevard, Goose Creek, SC 29445.
City of Hanahan | City Hall, 1255 Yeamans Hall Road, Hanahan, SC 29410.
Town of Bonneau | Town Hall, 420 Municipal Lane, Bonneau, SC 29431.
Town of Jamestown | Municipal Complex, 7604 State Highway 41, Jamestown, SC 29453.
Town of Moncks Corner | Municipal Complex, 118 Carolina Avenue, Moncks Corner, SC 29461.
Unincorporated Areas of Berkeley County | Berkeley County Office Building, 1003 U.S. Highway 52, Moncks Corner, SC 29461.

[FR Doc. 2018-24072 Filed 11-2-18; 8:45 am]

BILLING CODE 9110-12-P